DEPARTMENT OF COMMERCE

United States Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-9 Patent Assignment Records.” This action is being taken to update the Privacy Act notice. We invite the public to comment on the amendments noted in this publication.

DATES: Written comments must be received no later than April 29, 2013. The amendments will become effective as proposed on April 29, 2013, unless the USPTO receives comments that would result in a contrary determination.

ADDRESSES: You may submit written comments by any of the following methods:

• Email: Lee.Thompson@uspto.gov. Include “Privacy Act PAT-TM-9 comment” in the subject line of the message.

• Fax: (571) 273-0140, marked to the attention of Lee Thompson.

• Mail: Lee Thompson, Assignment Recordation Branch, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Lee Thompson, Assignment Recordation Branch, United States Patent and Trademark Office, P.O. Box 1450, Alexandria, VA 22313-1450, (571) 272-3350.

SUPPLEMENTARY INFORMATION: The United States Patent and Trademark Office (USPTO) is giving notice of an amendment to a system of records that is subject to the Privacy Act of 1974. This system of records maintains information related to recordation of assignments of property rights for patent applications and patents, including the documents submitted to the USPTO for such recordation. The Privacy Act notice is being updated with the current address information for the system location and system manager. The description of the routine uses of records maintained in the system has been updated to include use in law enforcement, audits and oversight activities, and distribution to contractors, all uses commonly published in other agency system of records notices. The rule references for the notification procedure, contesting record procedures, and exemptions have been updated to correspond to the current statutes and rules for those items as related to the USPTO.

The amended Privacy Act system of records notice, “COMMERCE/PAT-TM-9 Patent Assignment Records,” is published in its entirety below.

COMMERCE/PAT-TM-9

System name:

Patent Assignment Records.

Security classification:

Unclassified.

System location:

Assignment Recordation Branch, Public Records Division, Public Information Services Group, United States Patent and Trademark Office, 2800 South Randolph Street, Arlington, VA 22206.

Categories of individuals covered by the system:

Persons who have given or received property rights under an application for patent or a patent by means of a written instrument recorded in the USPTO; intellectual property owners (deceased or incapacitated) and their legal representatives.

Categories of records in the system:

Assignments, grants, mortgages, liens, encumbrances, licenses, and other instruments affecting title, letters testamentary, other court certificates and orders.

Authority for maintenance of the system:

35 U.S.C. 1, 6, and 261; E.O. 9424.

Purpose(s):

To maintain records related to assignments of property rights for patent applications and patents, including the documents submitted to the USPTO for recordation.

Routine uses of records maintained in the system, including categories of users and the purposes of such uses:

Records open to the public are searched by users for the purpose of determining ownership for other property rights with respect to patents and trademarks. On the separate Government Register, records categorized as “Public” are available for public inspection; those records categorized as “Departmental” are used by duly authorized employees of Government agencies; and those records designated as “Secret”' are disclosed only to persons having written authority from the head of the agency submitting the record. Assignment records relating to pending patent applications are maintained in confidence in accordance with 5 U.S.C. 122.

In addition to the routine uses in the Prefatory Statement of General Routine Uses, Nos. 1-5 and 8-13, as found at 46 FR 63501-63502 (December 31, 1981):

(1) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(2) Routine uses will include disclosure to an agency, organization, or individual for the purpose of performing audit or oversight operations as authorized by law, but only such information as is necessary and relevant to such audit or oversight function.

(3) Routine uses will include disclosure to contractors and their agents, grantees, experts, consultants, and others performing or working on a contract, service, grant, cooperative agreement, or other work assignment for the USPTO, when necessary to accomplish an agency function related to this system of records. Individuals provided information under this routine use are subject to the same Privacy Act requirements and limitations on disclosure as are applicable to the USPTO employees.

Disclosure to consumer reporting agencies:

Not applicable.

Policies and practices for storing, retrieving, accessing, retaining, and disposing of records in the system:

Storage:

Paper files and electronic storage media.

Retrievability:

By inventor's name, application serial number, assignee's name, assignor's name, and patent number.

Safeguards:

Building employs security guards. Records subject to confidentiality requirements are maintained in areas accessible only to authorized personnel who are properly screened, cleared and trained. Records in the Secret Portion of the Government Register are, additionally, stored in a locked vault. Where information is retrievable by computer, all safeguards appropriate to secure the system (hardware and software) are utilized.

Retention and disposal:

Records retention and disposal is in accordance with the series records schedules.

System manager(s) and address:

Records Officer, Assignment Recordation Branch, United States Patent and Trademark Office, 2800 South Randolph Street, Arlington, VA 22206.

Notification procedure:

Information about the records contained in this system may be obtained by sending a request in writing, signed, to the system manager at the address above or to the address provided in 37 CFR 102 subpart B for making inquiries about records covered by the Privacy Act. Requesters should provide their name, address, and record sought (including assignees' or assignors' name(s) and application serial number, if known) in accordance with the procedures for making inquiries appearing in 37 CFR 102 subpart B.

Record access procedures:

Requests from individuals should be addressed as stated in the notification section above.

Contesting record procedures:

The general provisions for access, contesting contents, and appealing initial determinations by the individual concerned appear in 37 CFR 102 subpart B. Requests from individuals should be addressed as stated in the notification section above.

Record source categories:

Persons who have submitted written instruments to the USPTO for recording.

Exemptions claimed for the system:

Pursuant to 5 U.S.C. 552a(k)(1), assignment records which are designated “Secret” and maintained in the Government Register pursuant to E.O. 9424 are exempted from the notification, access, and contest requirements of the agency procedures (under 5 U.S.C. 552a(c)(3), (d), (e)(1), (e)(4)(G), (H), and (I), and (f)). This exemption is made to prevent disclosure of information which might be detrimental to national security and in accordance with agency rules which appear in 37 CFR 102 subpart B.

Dated: March 26, 2013.
Susan K. Fawcett,
Records Officer, USPTO, Office of the Chief Information Officer.

[FR Doc. 2013-07378 Filed 3-28-13; 8:45 am]

BILLING CODE 3510-16-P